DEPARTMENT OF ENERGY

Federal Energy Regulatory Commission

Combined Notice of Filings #2

August 22, 2005.

Take notice that the Commission received the following electric rate filings:

Docket Numbers: ER04-230-010.

Applicants: New York Independent System Operator, Inc.

Description: New York Independent System Operator, Inc. (NYISO), in response to the Commission's deficiency letter issued 7/31/05, submits an amendment to its 6/1/05 filing regarding the status of efforts by the NYISO and its stakeholders to increase the participation of Demand Side Resources in the markets administrated by the NYISO following the 2/1/05 implementation of the Real Time Scheduling software enhancements and associated market rules.

Filed Date: 08/12/2005.

Accession Number: 20050822-0090.

Comment Date: 5 p.m. eastern time on Friday, September 02, 2005.

Docket Numbers: ER04-901-001.

Applicants: Entergy Services, Inc.

Description: Entergy Services Inc., acting as agent for the Entergy Operating Companies, resubmits the revised tariff sheets originally submitted on 7/2/05 in Docket No. ER04-901-001.

Filed Date: 08/16/2005.

Accession Number: 20050818-0005.

Comment Date: 5 p.m. eastern time on Tuesday, September 06, 2005.

Docket Numbers: ER05-1207-001.

Applicants: Southwestern Electric Power Company.

Description: Southwestern Electric Power Company submits a revision to its 7/11/05 triennial filing to update rates applicable to transmission service to be provided to Arkansas Electric Cooperative Corporation for the period 7/01/05 to 12/31/07.

Filed Date: 08/16/2005.

Accession Number: 20050819-0094.

Comment Date: 5 p.m. eastern time on Tuesday, September 06, 2005.

Docket Numbers: ER05-1244-001.

Applicants: Societe Generale Energie (USA) Corp.

Description: Societe Generale Energie (USA) Corp. submits Original Sheet No. 3 to its proposed FERC Electric Tariff, Original Volume 1, which has been modified to correct a typographical error in its 7/25/05 filing in Docket No. ER05-1244-000.

Filed Date: 08/17/2005.

Accession Number: 20050822-0077.

Comment Date: 5 p.m. eastern time on Monday, August 29, 2005.

Docket Numbers: ER05-1265-001.

Applicants: MidAmerican Energy Company.

Description: MidAmerican Energy Company submits a red-line version of the amended Interconnection Agreement with Central Iowa Power Cooperative filed on 7/29/05 in Docket No. ER05-1265-000.

Filed Date: 08/16/2005.

Accession Number: 20050819-0089.

Comment Date: 5 p.m. eastern time on Tuesday, September 06, 2005.

Docket Numbers: ER05-1348-000.

Applicants: Southern California Edison Company.

Description: Southern California Edison Company (SCE) submits revised rate sheets to the Interconnection Facilities Agreement between the City of Rancho Cucamonga and SCE, Service Agreement No. 90, under SCE's Wholesale Distribution Access Tariff, FERC Electric Tariff, First Revised Volume No. 5.

Filed Date: 08/16/2005.

Accession Number: 20050818-0168.

Comment Date: 5 p.m. eastern time on Tuesday, September 06, 2005.

Docket Numbers: ER05-1349-000.

Applicants: Western Systems Power Pool, Inc.

Description: Western Systems Power Pool, Inc. (WSSP) submits request to amend the WSPP Agreement to include Susquehanna Energy Products, LLC and JPMorgan Chase Bank, NA as members of the WSPP.

Filed Date: 08/16/2005.

Accession Number: 20050818-0167.

Comment Date: 5 p.m. eastern time on Tuesday, September 06, 2005.

Docket Numbers: ER05-1350-000.

Applicants: Ohio Valley Electric Corporation.

Description: Ohio Valley Electric Corporation submits revisions to its Open Access Transmission Tariff containing, without modification, the changes to the pro forma Large Generator Interconnection Agreement required by Order No. 2003-C.

Filed Date: 08/16/2005.

Accession Number: 20050818-0166.

Comment Date: 5:00 p.m. eastern time on Tuesday, September 06, 2005.

Docket Numbers: ER05-1351-000.

Applicants: PJM Interconnection L.L.C.

Description: PJM Interconnection, L.L.C. submits revisions to Attachment Q, PJM Credit Policy, of PJM's Open Access Transmission Tariff.

Filed Date: 08/16/2005.

Accession Number: 20050818-0165.

Comment Date: 5:00 p.m. eastern time on Tuesday, September 06, 2005.

Docket Numbers: ER05-1353-000.

Applicants: ISO New England Inc.; New England Power Pool.

Description: ISO New England Inc and New England Power Pool jointly submit amendments to Market Rule 1 and its Appendix F regarding real-time operating reserve credit eligibility rules.

Filed Date: 08/16/2005.

Accession Number: 20050818-0164.

Comment Date: 5 p.m. eastern time on Tuesday, September 06, 2005.

Docket Numbers: ER05-1354-000.

Applicants: PJM Interconnection, L.L.C.

Description: PJM Interconnection, L.L.C. (PJM) submits letter explaining that under the independent entity variation standard PJM is not adopting certain changes addressed by Order No. 2003-C.

Filed Date: 08/16/2005.

Accession Number: 20050818-0163.

Comment Date: 5 p.m. eastern time on Tuesday, September 06, 2005.

Docket Numbers: ER05-1355-000.

Applicants: Lowell Power LLC.

Description: Lowell Power LLC submits its notice of cancellation of its market-based rate authority under Lowell Power LLC, Rate Schedule FERC No. 1.

Filed Date: 08/16/2005.

Accession Number: 20050819-0011.

Comment Date: 5 p.m. eastern time on Tuesday, September 06, 2005.

Docket Numbers: ER05-752-002.

Applicants: Midwest Independent Transmission System Operator, Inc. and PJM Interconnection, L.L.C.

Description: Midwest Independent Transmission System Operator, Inc. and PJM Interconnection, L.L.C. submit an errata to their 8/4/05 filing in Docket No. ER05-752-002 which included proposed revisions to the Joint Operating Agreement as required by the Commission's order issued 7/5/05, 112 FERC ¶ 61,029 (2005).

Filed Date: 08/16/2005.

Accession Number: 20050818-0006.

Comment Date: 5 p.m. eastern time on Tuesday, September 06, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed dockets(s). For assistance with any FERC Online service, please e-mail FERCOnlineSupport@ferc.gov. or call (866) 208-3676 (toll free). For TTY, call (202) 502-8659.

Linda Mitry,
Deputy Secretary.

[FR Doc. E5-4661 Filed 8-25-05; 8:45 am]

BILLING CODE 6717-01-P